DEPARTMENT OF EDUCATION

[CFDA No.: 84.351C]

Professional Development for Music Educators

AGENCY: Department of Education.

ACTION: Notice inviting applications for new awards for fiscal year (FY) 2002.

Purpose of Program: The Professional Development for Music Educators program, authorized under Subpart 15 of Part D of Title V of the Elementary and Secondary Education Act (ESEA), as amended by Public Law 107-110, the No Child Left Behind Act of 2001, makes grants to eligible entities for the implementation of high-quality professional development programs in elementary and secondary education. This program will fund professional development model programs based upon innovative instructional methods, especially those linked to scientifically based research.

Eligible Applicants: A local educational agency (LEA), acting on behalf of an individual school or schools where 75 percent or more of the children are from low-income families, based on the poverty criteria described in Title I, Section 1113(a)(5) of the ESEA, in collaboration with at least one of the following: (1) An institution of higher education; (2) a State educational agency; or (3) a public or private non-profit agency with a history of providing high-quality professional development services to public schools. Only schools where 75 percent or more of the children served are from low-income families may receive services under this program. Each school served through this program must submit evidence that it meets the poverty criteria. Applicants may submit records kept for the purpose of Title I of the ESEA that demonstrate proof of eligibility for each school to be served.

Note: The LEA must serve as the fiscal agent for the program.

Applications Available: June 4, 2002.

Deadline for Transmittal of Applications: July 19, 2002.

Deadline for Intergovernmental Review: September 17, 2002.

Available Funds: approximately $2,000,000.

Estimated Number of Awards: 5-10.

Estimated Size of Awards: $200,000-$400,000.

Average size of Awards: $300,000.

Note: The Department is not bound by any estimates in this notice. Funding for the second and third years is subject to the availability of funds and the approval of continuation awards (34 CFR 75.253).

Project Period: up to 36 months.

General Requirements:

Page Limit Requirement: The program narrative is limited to no more than 40 pages. The page limit applies to the narrative section only, however, all of the application narrative must be included in the narrative section. If the narrative section of an application exceeds the page limitation, the application will not be reviewed. In addition, the following standards are required: (1) Each “page” is 8.5″ x 11″ (on one side only) with one inch margins (top, bottom, and sides); (2) double space (no more than three lines per vertical inch) all text in the application narrative including titles, headings, footnotes, quotations, and captions as well as all text in charts, tables, figures, and graphs; and (3) use a font that is either 12-point or larger or no smaller than 10 pitch (characters per inch).

Project Directors Meeting: Applicants are encouraged to budget for a two-day project directors meeting in Washington, DC.

Applicable Regulations: The Education Department General Administrative Regulations (EDGAR) in 34 CFR Parts 74, 75, 77, 79, 80, 81, 82, 85, 97, 98, and 99.

E-Mail Notification of Intent To Apply for Funding: The Department will be able to develop a more efficient process for reviewing grant applications if it has a better understanding of the number of entities that intend to apply for funding under this competition. Therefore, the Secretary strongly encourages each potential applicant to notify the Department by e-mail that it intends to submit an application for funding. The Secretary requests that this e-mail notification be sent no later than July 5, 2002. The e-mail notification should be sent to Ms. Madeline Baggett at madeline.baggett@ed.gov. Applicants that fail to provide this e-mail notification may still apply for funding.

Program Purposes and Goals: This program supports the strengthening of standards-based music education programs, which are an integral part of elementary and secondary school curriculums. It also helps ensure that all students meet challenging State academic content standards and challenging State student academic achievement standards in the arts. Professional development activities that are developed, enhanced, or expanded through this program will assist music teachers in the implementation of music education standards as well as the integration of music instruction into other subject areas.

Music content and achievement standards have been voluntarily adopted in many States throughout the country. Such standards help school districts to establish student performance standards based upon the unique needs of, and desired outcomes for, the students in their communities. The development and implementation of standards-based music programs enable music educators to assess and document the effectiveness of teaching strategies and materials in addition to student achievement. However, teachers often need professional development on how to implement music education standards for both music programs and programs designed to integrate music into other subject areas.

High-quality professional development programs supported under this program should be linked to the implementation of music standards and/or the integration of music into other content areas and should include: (1) Strategies for addressing student achievement; (2) strategies for increasing the needs of students who come from diverse cultural, linguistic, and socioeconomic backgrounds; (3) the development of intellectual and leadership potential of teachers; (4) rigorous and sustained activities that result in increased content area knowledge and classroom effectiveness of music teachers; (5) technological innovations relevant to music instruction; and (6) increased opportunities for teachers to share and discuss new methods or teaching strategies with their peers.

At the end of the project period, EDGAR (34 CFR 75.590) requires each grantee to submit a final program report. The Department intends to use information from the final report to determine which professional development programs have the greatest potential for improving teacher expertise in music education, and ultimately student performance in, music education. The Department plans to disseminate information regarding successful teaching methods or best practices that are developed or enhanced through this program to the music education community and to the public in general.

Waiver of Proposed Rulemaking: In accordance with the Administrative Procedure Act (5 U.S.C. 553), it is the practice of the Secretary to offer interested parties the opportunity to comment on proposed rules. Section 437(d)(1) of the General Education Provisions Act (GEPA), however, allows the Secretary to exempt rules governing the first competition under a new or substantially revised program authority (20 U.S.C. 1232(d)(1)). This competition is the first Music Educators program competition under the reauthorized Arts in Education program as amended by Public Law 107-110, the No Child Left Behind Act of 2001, and therefore qualifies for this exemption. The Secretary, in accordance with section 437(d)(1) of GEPA, has decided to forego public comment in order to ensure timely grant awards. These rules will apply to the FY 2002 grant competition only.

Coordination Requirement: Under section 5551(f)(1) of the ESEA, the Secretary requires that each entity funded under this competition coordinate, to the extent practicable, each project or program carried out with such assistance with appropriate activities of public or private cultural agencies, institutions, and organizations, including museums, arts education associations, libraries, and theaters.

Supplement, Not Supplant, Requirement: Under section 5551(f)(2) of the authoring statute, the Secretary requires that assistance provided under this program be used only to supplement, and not to supplant, other assistance or funds made available from non-Federal sources for the activities assisted under this subpart.

Absolute Priority: Under 34 CFR 75.105(c)(3), the Secretary gives an absolute priority to professional development programs designed for K-12 music teachers that focus on: (1) The development, enhancement, or expansion of standards-based music education programs; or (2) the integration of music instruction into other subject area content. Funded projects will address and strive to achieve all aspects of high-quality professional development programs as described under the Program Purposes and Goals section.

Under 34 CFR 75.105(c)(3), the Secretary will fund under this competition only applicants that meet the absolute priority.

Selection Criteria: The Secretary will use the following selection criteria in 34 CFR 75.210 to evaluate applications under this competition. The maximum score for each criterion is 100 points. The maximum score for each criterion is indicated in parenthesis with the criterion. The criteria are as follows:

(a) Significance. (15 points) The Secretary considers the significance of the proposed project. In determining the significance of the proposed project, the Secretary considers the following factors:

(i) The extent to which the proposed project involves the development of promising new strategies that build on, or are alternatives to, existing strategies.

(ii) The potential replicability of the proposed project or strategies, including, as appropriate, the potential for implementation in a variety of settings.

(iii) The importance or magnitude of the results or outcomes likely to be attained by the proposed project, especially improvements in teaching and student achievement.

(b) Quality of the Project Design. (20 points) The Secretary considers the quality of the project design of the proposed project. In determining the quality of the project design, the Secretary considers the following factors:

(i) The extent to which the proposed project represents an exceptional approach for meeting the priority established for the competition.

(ii) The extent to which the goals, objectives, and outcomes to be achieved by the proposed project are clearly specified and measurable.

(iii) The quality of the methodology to be employed in the proposed project.

(c) Quality of Project Services. (20 points) The Secretary considers the quality of project services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(i) The extent to which the services to be provided by the proposed project reflect up-to-date knowledge from research and effective practices.

(ii) The extent to which the professional development services to be provided by the proposed project are of sufficient quality, intensity, and duration to lead to improvements in practice among the recipients of those services.

(d) Quality of Project Personnel. (10 points) The Secretary considers the quality of the personnel who will carry out the proposed project. In determining the quality of project personnel, the Secretary considers the extent to which the applicant encourages applications for employment from persons who are members of groups that have traditionally been under-represented based on race, color, national origin, gender, age, or disability. In addition, the Secretary considers the following factors:

(i) The qualifications, including relevant training and experience, of the project director;

(ii) The qualifications, including relevant training and experience, of key project personnel.

(iii) The qualifications, including relevant training and experience, of project consultants or subcontractors.

(e) Adequacy of Resources. (10 points) The Secretary considers the adequacy of resources for the proposed project. In determining the adequacy of resources for the proposed project, the Secretary considers the following factors:

(i) The adequacy of support, including facilities, equipment, supplies, and other resources, from the lead applicant organization.

(ii) The extent to which the costs are reasonable in relation to the number of persons to be served and to the anticipated results and benefits.

(iii) The potential for incorporation of project purposes, activities or benefits into the ongoing program of the agencies or organizations involved in the project at the end of Federal funding.

(f) Quality of the Management Plan. (10 points) The Secretary considers the quality of the management plan for the proposed project. In determining the quality of the management plan for the proposed project, the Secretary considers the following factors:

(i) The adequacy of the management plan to achieve the objectives of the proposed project on time and within budget, including clearly defined responsibilities, time lines, and milestones for accomplishing project tasks.

(ii) The adequacy of procedures for ensuring continuous feedback and continuous improvement in the operation of the proposed project.

(iii) The extent to which the time commitments of the project director and other key project personnel are appropriate and adequate to meet the objectives of the proposed project.

(g) Quality of the Project Evaluation. (15 points) The Secretary considers the quality of the project evaluation. In determining the quality of the project evaluation, the Secretary considers the following factors:

(i) The extent to which the methods of evaluation include the use of objective performance measures that are clearly related to the intended outcomes of the project and will produce quantitative and qualitative data to the extent possible.

(ii) The extent to which the evaluation will provide guidance about effective strategies suitable for replication or testing in other settings.

For Applications or Information Contact: Madeline E. Baggett, U.S. Department of Education, 400 Maryland Avenue, SW, FB-6, Room 3E228, Washington, DC 20202-6140. Telephone (202) 260-2502. Internet address: Madeline.Baggett@ed.gov. Individuals who use a telecommunications device for the deaf (TDD) may call the Federal Information Relay Service (FIRS) at 1-800-877-8339.

Individuals with disabilities may obtain this document in an alternative format (e.g., Braille, large print, audiotape, or computer diskette) on request to the contact person listed in the preceding paragraph.

Individuals with disabilities may obtain a copy of the application package in an alternative format also by contacting that person. However, the Department is not able to reproduce in an alternative format the standards forms included in the application package.

Electronic Access to this Document: You may view this document, as well as all other Department of Education documents published in the Federal Register, in text or Adobe Portable Document Format (PDF) on the Internet at the following site: www.ed.gov/legislation/FedRegister.To use PDF you must have Adobe Acrobat Reader, which is available free at this site. If you have questions about using the PDF, call the U.S. Government Printing Office (GPO) toll free at 1-888-293-6498, or in the Washington, DC area at 202-512-1530.

Note: The official version of this document is the document published in the Federal Register. Free Internet access to the official edition of the Federal Register and the Code of Federal Regulations is available on GPO Access at: Http://www.access.gpo.gov/nara/index.html.

Program Authority: 20 U.S.C. 7271.

Dated: May 30, 2002.
Susan B. Neuman,
Assistant Secretary for Elementary and Secondary Education.

[FR Doc. 02-13984 Filed 6-3-02; 8:45 am]

BILLING CODE 4000-01-P